DEPARTMENT OF AGRICULTURE

Grain Inspection, Packers and Stockyards Administration

Opportunity for Designation in the Topeka, KS; Cedar Rapids, IA; Minot, ND; and Cincinnati, OH Areas; Request for Comments on the Official Agencies Servicing These Areas

AGENCY: Grain Inspection, Packers and Stockyards Administration, USDA.

ACTION: Notice.

SUMMARY: The designations of the official agencies listed below will end on June 30, 2012. We are asking persons or governmental agencies interested in providing official services in the areas presently served by these agencies to submit an application for designation. In addition, we are asking for comments on the quality of services provided by the following designated agencies: Kansas Grain Inspection Service, Inc. (Kansas); Mid-Iowa Grain Inspection, Inc. (Mid-Iowa); Minot Grain Inspection, Inc. (Minot); and Tri-State Grain Inspection Service, Inc. (Tri-State).

DATES: Applications and comments must be received by March 12, 2012.

ADDRESSES: Submit applications and comments concerning this notice using any of the following methods:

• Apply for Designation on the Internet: Use FGISOnline (https://fgis.gipsa.usda.gov/default_home_FGIS.aspx) and then click on the Delegations/Designations and Export Registrations (DDR) link. You will need to obtain an FGISOnline customer number and a USDA eAuthentication username and password prior to applying.

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153.

• Fax: Eric J. Jabs, 816-872-1258.

• Email: Eric.J.Jabs@usda.gov.

Read Applications and Comments: All applications and comments will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA, designations of official agencies are effective for three years unless terminated by the Secretary, but may be renewed according to the criteria and procedures prescribed in section 79(f) of the USGSA.

Areas Open for Designation

Kansas

Pursuant to section 79(f)(2) of the USGSA, the following geographic area, in the States of Colorado, Kansas, Nebraska, and Wyoming, is assigned to this official agency:

1. The entire State of Colorado.

2. The entire State of Kansas.

3. In Nebraska and Wyoming: Bounded on the North by the northern Scotts Bluff County line; the northern Morrill County line east to Highway 385; Bounded on the East by Highway 385 south to the northern Cheyenne County line; the northern and eastern Cheyenne County lines; the northern and eastern Deuel County lines; Bounded on the South by the southern Deuel, Cheyenne, and Kimball County lines; and Bounded on the West by the western Kimball, Banner, and Scotts Bluff County lines. Goshen, Laramie, and Platt Counties, Wyoming.

Mid-Iowa

Pursuant to section 79(f)(2) of the USGSA, the following geographic area, in the States of Minnesota and Iowa, is assigned to this official agency:

1. In Minnesota: Wabasha, Olmstead, Winona, Houston, and Fillmore Counties.

2. In Iowa: Bounded on the North by the northern Winneshiek and Allamakee County lines; Bounded on the East by the eastern Allamakee County line; the eastern and southern Clayton County lines; the eastern Buchanan County line; the northern and eastern Jones County lines; the eastern Cedar County line south to State Route 130; Bounded on the South by State Route 130 west to State Route 38; State Route 38 south to Interstate 80; Interstate 80 west to U.S. Route 63; and Bounded on the West by U.S. Route 63 north to State Route 8; State Route 8 east to State Route 21; State Route 21 north to D38; D38 east to State Route 297; State Route 297 north to V49; V49 north to Bremer County; the southern Bremer County line; the western Fayette and Winneshiek County lines.

Minot

Pursuant to section 79(f)(2) of the USGSA, the following geographic area, in the State of North Dakota, is assigned to this official agency: Bounded on the North by the North Dakota State line east to the eastern Bottineau County line; Bounded on the East by the eastern Bottineau County line south to the northern Pierce County line; the northern Pierce County line east to State Route 3; State Route 3 south to State Route 200; Bounded on the South by State Route 200 west to State Route 41; State Route 41 south to U.S. Route 83; U.S. Route 83 northwest to State Route 200; State Route 200 west to U.S. Route 85; U.S. Route 85 south to Interstate 94; Interstate 94 west to the North Dakota State line; and Bounded on the West by the North Dakota State line.

Tri-State

Pursuant to section 79(f)(2) of the USGSA, the following geographic area, in the States of Indiana, Kentucky, and Ohio, is assigned to this official agency:

1. In Indiana: Dearborn, Decatur, Franklin, Ohio, Ripley, Rush (south of State Route 244), and Switzerland Counties.

2. In Kentucky: Bath, Boone, Bourbon, Bracken, Campbell, Clark, Fleming, Gallatin, Grant, Harrison, Kenton, Lewis (west of State Route 59), Mason, Montgomery, Nicholas, Owen, Pendleton, and Robertson Counties.

3. In Ohio: Bounded on the North by the northern Preble County line east; the western and northern Miami County lines east to State Route 296; State Route 296 east to State Route 560; State Route 560 south to the Clark County line; the northern Clark County line east to U.S. Route 68; Bounded on the East by U.S. Route 68 south to U.S. Route 22; U.S. Route 22 east to State Route 73; State Route 73 southeast to the Adams County line; the eastern Adams County line; Bounded on the South by the southern Adams, Brown, Clermont, and Hamilton County lines; and Bounded on the West by the western Hamilton, Butler, and Preble County lines.

Opportunity for Designation

Interested persons or governmental agencies may apply for designation to provide official services in the geographic areas specified above under the provisions of section 79(f) of the USGSA and 7 CFR 800.196(d). Designation in the specified geographic areas is for the period beginning July 1, 2012 and ending June 30, 2015. To apply for designation or for more information, contact Eric J. Jabs at the address listed above or visit GIPSA's Web site at http://www.gipsa.usda.gov.

Request for Comments

We are publishing this notice to provide interested persons the opportunity to comment on the quality of services provided by the Kansas, Mid-Iowa, Minot, and Tri-State official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Alan R. Christian,
Acting Administrator, Grain Inspection, Packers and Stockyards Administration.

[FR Doc. 2012-2995 Filed 2-8-12; 8:45 am]

BILLING CODE 3410-KD-P